DEPARTMENT OF HOUSING AND URBAN DEVELOPMENT

[Docket No. FR-4910-N-17]

Notice of Proposed Information Collection for Public Comment; Periodical Estimate for Partial Payment and Related Schedules

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments due date: September 20, 2004.

ADDRESSES: Interested persons are invited to submit comments regarding this proposal. Comments should refer to the proposal by name/or OMB Control number and should be sent to: Sherry Fobear McCown, Reports Liaison Officer, Public and Indian Housing, Department of Housing and Urban Development, 451 7th Street, SW., Room 4116, Washington, DC 20410-5000.

FOR FURTHER INFORMATION CONTACT: Sherry Fobear McCown, (202) 708-0713, extension 7651, for copies of the proposed forms and other available documents (This is not a toll-free number. The forms are also accessible through HUD's HUDCLIPS Web site at http://www.hudclips.org/cgi/index.cgi.

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Periodical Estimate for Partial Payment and Related Schedules.

OMB Control Number: 2577-0025.

Description of the need for the information and proposed use: Housing Agencies are responsible for contract administration to ensure that the work for project development is done in accordance with State laws and HUD requirements. Contract/subcontractor reports provide details, and summaries of payments, change orders, and schedule of materials stored for the project.

Agency form number: HUD-51001, 51002, 51003, 51004.

Members of affected public: Public Housing Agencies, State, or local, or tribal governments.

Estimation of the total number of hours needed to prepare the information collection including number of respondents: 3,527 respondents, 14,075 responses average annually, 2.15 hours average response, 51,124 hours total reporting and recordkeeping burden hours.

Status of the proposed information collection: Extension of currently approved collection.

Authority: Section 3506 of the Paperwork Reduction Act of 1995, 44 U.S.C. Chapter 35, as amended.

Dated: July 16, 2004.
William O. Russell III,
Deputy Assistant Secretary for the Office of Public Housing Voucher Programs.

[FR Doc. 04-16631 Filed 7-21-04; 8:45 am]

BILLING CODE 4210-33-P